DEPARTMENT OF LABOR

Employment and Training Administration

[TA-W-53,293 and TA-W-53,293B]

Harriet and Henderson Yarns, Inc., Bladen Plant, Clarkton, NC and Harriet and Henderson Yarns, Inc., Fort Payne Distribution Center, Fort Payne, AL

Amended Certification Regarding Eligibility To Apply for Worker Adjustment Assistance and Alternative Trade Adjustment Assistance

In accordance with section 223 of the Trade Act of 1974 (19 U.S.C. 2273) the Department of Labor issued a Notice of Certification Regarding Eligibility to Apply for Worker Adjustment Assistance and Alternative Trade Adjustment Assistance on December 3, 2003, applicable to workers of Harriet and Henderson Yarns, Inc., Bladen Plant Clarkton, North Carolina. The notice was published in the Federal Register on January 16, 2004 (69 FR 2625).

At the request of the petitioners, the Department reviewed the certification for workers of the subject firm. The workers were engaged in the production of yarn.

The company reports that worker separations occurred at the Fort Payne Distribution Center, Fort Payne, Alabama location of the subject firm. The Fort Payne, Alabama location served as the warehouse/distribution center for the subject firms' production facilities in Clarkton, North Carolina and Cedartown, Georgia.

Based on these findings, the Department is amending the certification to include workers of Harriet and Henderson Yarns, Inc., Fort Payne Distribution Center, Fort Payne, Alabama.

The intent of the Department's certification is to include all workers of Harriet and Henderson Yarns, Inc. who were adversely affected by increased imports.

The amended notice applicable to TA-W-53,293 is hereby issued as follows:

All workers of Harriet and Henderson Yarns, Inc., Bladen Plant, Clarkton, North Carolina (TA-W-53,293), who became totally or partially separated from employment on or after October 17, 2002, and all workers of Harriet and Henderson Yarns, Inc., Cedartown Plant, Cedartown, Georgia (TA-W-53,293A) and Harriet and Henderson Yarns, Inc., Fort Payne Distribution Center, Fort Payne, Alabama (TA-W-53,293B) who became totally or partially separated on or after October 22, 2002, through December 3, 2005, are eligible to apply for adjustment assistance under section 223 of the Trade Act of 1974 and are also eligible to apply for alternative trade adjustment under section 246 of the Trade Act of 1974.

Signed at Washington, DC, this 11th day of February, 2004.
Linda G. Poole,
Certifying Officer, Division of Trade Adjustment Assistance.

[FR Doc. 04-4961 Filed 3-4-04; 8:45 am]

BILLING CODE 4510-30-P